DEPARTMENT OF TRANSPORTATION

Federal Aviation Administration

14 CFR Part 39

[Docket No. 2001-NM-114-AD]

RIN 2120-AA64

Airworthiness Directives; McDonnell Douglas Model DC-9-81, -82, -83, and -87 Series Airplanes, Model MD-88 Airplanes, and Model MD-90-30 Series Airplanes

AGENCY: Federal Aviation Administration, DOT.

ACTION: Notice of proposed rulemaking (NPRM).

SUMMARY: This document proposes the supersedure of an existing airworthiness directive (AD), applicable to certain McDonnell Douglas Model DC-9-81-82-83, and-87 series airplanes, Model MD-88 airplanes, and Model MD-90-30 series airplanes, that currently requires a revision to the applicable Airplane Flight Manual (AFM) to provide the flightcrew with the appropriate landing distance and flap positions, if applicable, for wet or icy runways. That AD also provides for an optional terminating action for the applicable AFM revision. For certain airplanes, this action would require accomplishment of the previously optional terminating action. The actions specified by the proposed AD are intended to prevent the flightcrew from performing a scheduled landing on a runway of potentially insufficient length due to failure of the weight-on-wheels spoiler lockout mechanism system and possible inactivation of the autospoiler actuator, which could result in the airplane overrunning the end of the runway during landing on a wet or icy runway.

DATES: Comments must be received by August 13, 2001.

ADDRESSES: Submit comments in triplicate to the Federal Aviation Administration (FAA), Transport Airplane Directorate, ANM-114, Attention: Rules Docket No. 2001-NM-114-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-114-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Albert Lam, Aerospace Engineer, Systems and Equipment Branch, ANM-130L, FAA, Los Angeles Aircraft Certification Office, 3960 Paramount Boulevard, Lakewood, California 90712-4137; telephone (562) 627-5346; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-114-AD.” The postcard will be date stamped and returned to the commenter.

Availability of NPRMs

Any person may obtain a copy of this NPRM by submitting a request to the FAA, Transport Airplane Directorate, ANM-114, Attention: Rules Docket No. 2001-NM-114-AD, 1601 Lind Avenue, SW., Renton, Washington 98055-4056.

Discussion

On April 5, 2001, the FAA issued AD 2001-07-10, amendment 39-12176 (66 FR 18870, April 12, 2001), applicable to certain McDonnell Douglas Model DC-9-81, -82, -83, and -87 series airplanes, Model MD-88 airplanes, and Model MD-90-30 series airplanes, to require a revision to the applicable Airplane Flight Manual (AFM) to provide the flightcrew with the appropriate landing distance and flap positions, if applicable, for wet or icy runways. That AD also provides for an optional terminating action for the applicable AFM revision. That action was prompted by reports indicating that the wiring of the weight-on-wheels spoiler lockout mechanism system provides insufficient current/voltage to provide full operational capability of deployment of the ground spoilers (inboard and outboard) during ground operation. The requirements of that AD are intended to prevent the flightcrew from performing a scheduled landing on a runway of potentially insufficient length due to failure of the weight-on-wheels spoiler lockout mechanism system and possible inactivation of the autospoiler actuator, which could result in the airplane overrunning the end of the runway during landing on a wet or icy runway.

Actions Since Issuance of Previous Rule

In the preamble to AD 2001-07-10, the FAA indicated that certain actions required by that AD were considered “interim action” and that further rulemaking action was being considered to require the terminating action (i.e., installing spoiler support bracket assemblies and relays, and revising the spoiler lockout relay wiring) for the applicable AFM revision on McDonnell Douglas Model MD-90-30 series airplanes. We have now determined that further rulemaking action is indeed necessary, and this proposed AD follows from that determination.

Since the issuance of AD 2001-07-10, the FAA has reviewed and approved Appendix 3E, Section 4, of MD-90 Airplane Flight Manual (AFM) MDC-91K0930, dated March 14, 2001, for incorporation into the Performance Section of the FAA-approved AFM. The procedures described in Section 4 provide the flightcrew with the appropriate landing distance and flap positions, if applicable, for wet or icy runways. Paragraph (b) of AD 2001-07-10, which is retained in this proposed AD, requires an AFM revision similar to that described in Section 4 of MD-90 AFM MDC-91K0930. We find that, in the interim until the terminating action can be done, either revision (discussed above) to the Performance Section of the MD-90 AFM can be accomplished. Therefore, we have added this provision to paragraph (b) of this proposed AD.

Explanation of Requirements of Proposed Rule

Since an unsafe condition has been identified that is likely to exist or develop on other products of this same type design, the proposed AD would supersede AD 2001-07-10 to continue to require a revision to the applicable Airplane Flight Manual (AFM) to provide the flightcrew with the appropriate landing distance and flap positions, if applicable, for wet or icy runways. For certain airplanes, this proposed AD also would continue to provide for an optional terminating action (i.e., installing spoiler support bracket assemblies and relays, and revising the spoiler lockout relay wiring) for the applicable AFM revision. For certain other airplanes, this proposed AD also would require accomplishment of the previously optional terminating action, which would terminate the requirement for the applicable AFM revision. The terminating actions would be required to be accomplished in accordance with the applicable Boeing service bulletin as described in the preamble of AD 2001-07-10, and listed in the following table:

Table.—Applicable Service Bulletins
Alert service bulletin | Revision level | Date | Model
MD80-27A359 | Original or 01 | January 29, 2001, March 26, 2001 | DC-9-81, -82, -83, and -87 series airplanes, and MD-88 airplanes.
MD90-27A031 | Original or 01 | January 29, 2001, March 26, 2001 | MD-90-30 series airplanes.

Cost Impact

There are approximately 224 Model DC-9-81, -82, -83, and -87 series airplanes, Model MD-88 airplanes, and Model MD-90-30 series airplanes of the affected design in the worldwide fleet. The FAA estimates that 67 airplanes of U.S. registry would be affected by this proposed AD.

The AFM revisions that are currently required by AD 2001-07-10, and retained in this proposed AD, take approximately 1 work hour per airplane to accomplish, at an average labor rate of $60 per work hour. Based on these figures, the cost impact of the currently required actions on U.S. operators is estimated to be $4,020, or $60 per airplane.

For certain airplanes, the new terminating action that is proposed in this AD action would take approximately 22 work hours per airplane to accomplish, at an average labor rate of $60 per work hour. The manufacturer has committed previously to its customers that it will bear the cost of replacement parts. Based on these figures, the cost impact of the proposed requirements of this AD on U.S. operators of Model MD-90-30 series airplanes is estimated to be $1,320 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Should an operator of Model DC-9-81, -82, -83, and -87 series airplanes, and Model MD-88 airplanes elect to accomplish the optional terminating action that would be provided by this AD action, it would take approximately 22 work hours to accomplish it, at an average labor rate of $60 per work hour. The manufacturer has committed previously to its customers that it will bear the cost of replacement parts. Based on these figures, the cost impact of the optional terminating action would be $1,320 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12176 (66 FR 18870, April 12, 2001), and by adding a new airworthiness directive (AD), to read as follows:

McDonnell Douglas: Docket 2001-NM-114-AD. Supersedes AD 2001-07-10, Amendment 39-12176.

Applicability: Models identified in Table 1 of this AD, certificated in any category; excluding those airplanes on which the modification specified in the applicable service bulletin listed in Table 1 of this AD has been done. Table 1 is as follows:

Table 1.—Applicability
Model | As Listed In
DC-9-81, -82, -83, and -87 series airplanes, and MD-88 airplanes. | Boeing Alert Service Bulletin MD80-27A359, Revision 01, dated March 26, 2001.
MD-90-30 series airplanes. | Boeing Alert Service Bulletin MD90-27A031, Revision 01, dated March 26, 2001.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent the flightcrew from performing a scheduled landing on a runway of potentially insufficient length due to failure of the weight-on-wheels spoiler lockout mechanism system and possible inactivation of the autospoiler actuator, which could result in the airplane overrunning the end of the runway during landing on a wet or icy runway, accomplish the following:

Restatement of Requirements of AD 2001-07-10

Airplane Flight Manual Revisions

(a) For Model DC-9-81, -82, -83, and -87 series airplanes, and MD-88 airplanes: Within 48 clock hours after April 27, 2001 (the effective date AD 2001-07-10, amendment 39-12176), revise the Performance Section of the FAA-approved Airplane Flight Manual (AFM) to include the following statement. This may be done by inserting a copy of this AD in the AFM.

“In-flight Spoiler Lockout Mechanism Installed and Activated, and Automatic Ground Spoiler System Operated.

When the in-flight spoiler lockout mechanism is installed and activated, the wet or icy runway landing field length, which is determined from the appropriate Landing Field Length and Speed Chart, must be increased by 1,720 feet under either of the following conditions:

a. The weight-on-wheels unlocking feature is not installed; or

b. The weight-on-wheels unlocking feature is installed, but inoperative.

When the in-flight spoiler lockout mechanism is deactivated, the above landing field length is not required.”

(b) For Model MD-90-30 series airplanes: Within 48 clock hours after April 27, 2001, do the actions specified in either paragraph (b)(1) or (b)(2) of this AD.

(1) Revise the Performance Section of the FAA-approved AFM to include the following statement. This may be done by inserting a copy of this AD in the AFM.

“Landing Field Length for A Wet or Icy Runway.

Increase landing field length, which is determined from the Basic Manual, by 1,800 feet (549 meters) for a wet or icy runway with 28-degree and 40-degree flaps.

There is no landing field length penalty for a dry runway.

In-flight spoiler lockout mechanism may NOT be deactivated, as indicated in the Master Minimum Equipment List (MMEL).”

(2) Revise the Performance Section of the FAA-approved AFM by inserting a copy of Appendix 3E, Section 4, of MD-90 AFM MDC-91K0930, dated March 14, 2001, into the AFM.

Note 2: The MD-90 Master Minimum Equipment List (MMEL), system and sequence number 65-02, and the second proviso of system and sequence number 65-03, currently specifies that, for 10 days, the in-flight spoiler lockout mechanism system may be deactivated. Where differences exist between the current specification of the MMEL and the requirements of this AFM limitation, the AFM limitation prevails.

Optional Terminating Modifications

(c) For Model DC-9-81, -82, -83, and -87 series airplanes, and MD-88 airplanes: Accomplishment of the actions specified in paragraphs (c)(1) and (c)(2) of this AD, per Boeing Alert Service Bulletin MD80-27A359, dated January 29, 2001, or Revision 01, dated March 26, 2001, terminates the AFM revision requirements of paragraph (a) of this AD. After doing those actions, the AFM revision required by paragraph (a) of this AD may be removed from the AFM.

(1) Install the spoiler support bracket assemblies and relays; and

(2) Revise the spoiler lockout relay wiring.

New Actions Required by This AD

Terminating Modification for Model MD-90-30 Series Airplanes

(d) For Model MD-90-30 series airplanes: Within 18 months after the effective date of this AD, do the actions specified in paragraphs (c)(1) and (c)(2) of this AD, per Boeing Alert Service Bulletin MD90-27A031, dated January 29, 2001, or Revision 01, dated March 26, 2001. Accomplishment of those actions terminates the AFM revision requirements of paragraph (b) of this AD. After doing those actions, the AFM revision required by paragraph (b) of this AD may be removed from the AFM.

Alternative Methods of Compliance

(e) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(f) Special flight permits may be issued in accordance with §§ 21.197 and 21.199 of the Federal Aviation Regulations (14 CFR 21.197 and 21.199) to operate the airplane to a location where the requirements of this AD can be accomplished.

Issued in Renton, Washington, on June 22, 2001.
Kalene C. Yanamura,
Acting Manager, Transport Airplane Directorate, Aircraft Certification Service.

[FR Doc. 01-16383 Filed 6-28-01; 8:45 am]

BILLING CODE 4910-13-U